DEPARTMENT OF COMMERCE

International Trade Administration

[C-570-987]

Hardwood and Decorative Plywood From the People's Republic of China: Postponement of Preliminary Determination in the Countervailing Duty Investigation

AGENCY: Import Administration, International Trade Administration, Department of Commerce.

FOR FURTHER INFORMATION CONTACT: David Lindgren, Lingjun Wang or Toni Page, AD/CVD Operations, Office 6, Import Administration, International Trade Administration, U.S. Department of Commerce, 14th Street and Constitution Avenue NW., Washington, DC 20230; telephone: (202) 482-3870, (202) 482-2316 and (202) 482-1398, respectively.

SUPPLEMENTARY INFORMATION:

Background

On October 17, 2012, the Department of Commerce (the Department) initiated the countervailing duty (CVD) investigation of hardwood and decorative plywood, from the People's Republic of China.¹ Currently, the preliminary determination for this investigation is due no later than December 24, 2012. The Department originally extended the deadline for this preliminary determination from December 21, 2012 until December 23, 2012. As explained in the memorandum from the Assistant Secretary for Import Administration, the Department exercised its discretion to toll deadlines for the duration of the closure of the Federal Government from October 29, through October 30, 2012 ² Therefore, the due date for the preliminary determination was extended to Sunday, December 23, 2012. However, it is the Department's long-standing practice to make a determination on the next business day when the statutory deadline falls on a weekend, federal holiday, or any other day when the Department is closed.³ Accordingly, the preliminary determination is currently Monday, December 24, 2012.

¹ See Hardwood and Decorative Plywood From the People's Republic of China: Initiation of Countervailing Duty Investigation, 77 FR 64955 (October 24, 2012).

² See Memorandum to the Record from Paul Piquado, Assistant Secretary for Import Administration, regarding “Tolling of Administrative Deadlines as a Result of the Government Closure During Hurricane Sandy,” dated October 31, 2012.

³ See Notice of Clarification: Application of “Next Business Day” Rule for Administrative Determination Deadlines Pursuant to the Tariff Act of 1930, As Amended, 70 FR 24533 (May 10, 2005).

Postponement of Due Date for the Preliminary Determination

Section 703(b)(1) of the Tariff Act of 1930, as amended (the Act), requires the Department to issue the preliminary determination in a CVD investigation within 65 days after the date on which the Department initiated the investigation. However, section 703(c)(1)(A) of the Act permits the Department to postpone making the preliminary determination until no later than 130 days after the date on which it initiated the investigation if the petitioner makes a timely request for an extension. In the instant investigation, the Coalition for Fair Trade of Hardwood Plywood and its individual members (Petitioners), made a timely request on November 28, 2012 that we postpone the preliminary CVD determination.⁴

⁴ See Petitioners' November 28, 2012 letter requesting postponement of the preliminary determination.

The Department finds no compelling reason to deny the request. Therefore, pursuant to section 703(c)(1)(A) of the Act, we are extending the due date for the preliminary determination to no later than 130 days after the date on which this investigation was initiated, i.e., to February 24, 2013. However, as discussed above, the Department is tolling all deadlines an additional two days due to the closing of the Federal Government in late October. Thus, the new deadline for the preliminary determination in this case will be February 26, 2013.

This notice is issued and published pursuant to section 703(c)(2) of the Act and 19 CFR 351.205(f)(1).

Dated: December 4, 2012.
Paul Piquado,
Assistant Secretary for Import Administration.

[FR Doc. 2012-29761 Filed 12-7-12; 8:45 am]

BILLING CODE 3510-DS-P